OVERSEAS PRIVATE INVESTMENT CORPORATION

January 29, 2008 Public Hearing

OPIC's Sunshine Act notice of its Public Hearing in Conjunction with each Board meeting was published in the Federal Register (Volume 73, Number 10, Page 2558) on January 15, 2008. No requests were received to provide testimony or submit written statements for the record; therefore, OPIC's annual public hearing scheduled for 3 p.m. on January 29, 2008 in conjunction with OPIC's January 31, 2008 Board of Directors meeting has been cancelled.

Contact Person for Information: Information on the hearing cancellation may be obtained from Connie M. Downs at (202) 336-8438, via facsimile at (202) 218-0136, or via E-mail at Connie.Downs@opic.gov.

Dated: January 24, 2008.
Connie M. Downs,
OPIC Corporate Secretary.

[FR Doc. 08-373 Filed 1-24-08; 12:10 pm]

BILLING CODE 3210-01-M